DEPARTMENT OF ENERGY

Federal Energy Regulatory Commission

[Project Nos. 6756-009, 4337-008, 5307-003]

Notice of Transfer of Exemptions: Lower Valley, LLC; West Hopkinton Hydro, LLC; Sweetwater Hydroelectric, LLC; Green Mountain Power Corporation

1. By letter filed June 27, 2017, three different exemptees informed the Commission that their projects were transferred to Green Mountain Power Corporation. They are: (1) Lower Valley, LLC exemptee for the Lower Valley Project No. 6756, originally issued November 9, 1982 ¹ located on the Sugar River in Sullivan County, New Hampshire; (2) West Hopkinton Hydro, LLC exemptee for the Hoague-Sprague Project No. 4337, originally issued March 11, 1982 ² located on the Contoocook River in Merrimack County, New Hampshire; and (3) the Sweetwater Hydroelectric, LLC exemptee for the Woodsville Reactivation Project No. 5307, originally issued February 5, 1982 ³ located on the Ammonoosuc River in Grafton County, New Hampshire. Transfer of an exemption does not require Commission approval.

¹ Notice of Exemption from Licensing. Claremont Hydro Associates, 21 FERC 62,216 (1982).

² Order Granting Exemption from Licensing of a Small Hydroelectric Project (5 MW or Less). ECH Hydro Associates, 18 FERC 62,419 (1982).

³ Order Granting Exemption from Licensing of a Small Hydroelectric Project of 5 Megawatts or Less and Denying Competing Application for Preliminary Permit, New England Hydro, Inc. Woodsville Fire District, 18 FERC 62,158 (1982).

2. Green Mountain Power Corporation is now the exemptee of the Lower Valley Project No. 6756; the Hoague-Sprague Project No. 4337; and the Woodsville Reactivation Project No. 5307. All correspondence should be forwarded to: Green Mountain Power Corporation, 163 Acorn Lane, Colchester, VT 05446.

Dated: August 15, 2017.
Kimberly D. Bose,
Secretary.

[FR Doc. 2017-17558 Filed 8-18-17; 8:45 am]

BILLING CODE 6717-01-P